DEPARTMENT OF ENERGY

Federal Energy Regulatory Commission

Combined Notice of Filings #1

Take notice that the Commission received the following electric corporate filings:

Docket Numbers: EC16-58-000.

Applicants: ReEnergy Sterling CT Limited Partnership.

Description: Application for Authorization Pursuant to Section 203 of the Federal Power Act to Dispose of Jurisdictional Facilities, Request for Waivers, Expedited Consideration, and Confidential Treatment of ReEnergy Sterling CT Limited Partnership.

Filed Date: 12/29/15.

Accession Number: 20151229-5335.

Comments Due: 5 p.m. ET 1/19/16.

Take notice that the Commission received the following electric rate filings:

Docket Numbers: ER15-2568-001.

Applicants: Duke Energy Progress, LLC.

Description: Compliance filing: Name Change Progress Rate Schedules to be effective 11/1/2015.

Filed Date: 12/30/15.

Accession Number: 20151230-5088.

Comments Due: 5 p.m. ET 1/20/16.

Docket Numbers: ER15-2568-002.

Applicants: Duke Energy Progress, LLC.

Description: Compliance filing: Name Change Progress SA to be effective 11/1/2015.

Filed Date: 12/30/15.

Accession Number: 20151230-5090.

Comments Due: 5 p.m. ET 1/20/16.

Docket Numbers: ER15-2569-001.

Applicants: Duke Energy Florida, LLC.

Description: Compliance filing: Name Change Rate Schedule Filing to be effective 11/1/2015.

Filed Date: 12/30/15.

Accession Number: 20151230-5044.

Comments Due: 5 p.m. ET 1/20/16.

Docket Numbers: ER15-2569-002.

Applicants: Duke Energy Florida, LLC.

Description: Compliance filing: Name Change Service Agreement Filing to be effective 11/1/2015.

Filed Date: 12/30/15.

Accession Number: 20151230-5080.

Comments Due: 5 p.m. ET 1/20/16.

Docket Numbers: ER16-212-001.

Applicants: Black Hills/Colorado Electric Utility Company, LP.

Description: Tariff Amendment: Response Filing to be effective 1/1/2016.

Filed Date: 12/29/15.

Accession Number: 20151229-5287.

Comments Due: 5 p.m. ET 1/19/16.

Docket Numbers: ER16-217-001.

Applicants: Black Hills/Colorado Electric Utility Co.

Description: Tariff Amendment: Response Filing to be effective 1/1/2016.

Filed Date: 12/29/15.

Accession Number: 20151229-5288.

Comments Due: 5 p.m. ET 1/19/16.

Docket Numbers: ER16-652-000.

Applicants: Roosevelt Wind Project, LLC.

Description: Market-Based Triennial Review Filing: Roosevelt Wind Project Triennial Filing to be effective 2/28/2016.

Filed Date: 12/29/15.

Accession Number: 20151229-5285.

Comments Due: 5 p.m. ET 2/29/16.

Docket Numbers: ER16-653-000.

Applicants: Slate Creek Wind Project, LLC.

Description: Market-Based Triennial Review Filing: Slate Creek Wind Triennial Filing to be effective 2/28/2016.

Filed Date: 12/29/15.

Accession Number: 20151229-5286.

Comments Due: 5 p.m. ET 2/29/16.

Docket Numbers: ER16-654-000.

Applicants: Spearville 3, LLC.

Description: Market-Based Triennial Review Filing: Spearville 3 Triennial Filing to be effective 2/28/2016.

Filed Date: 12/29/15.

Accession Number: 20151229-5289.

Comments Due: 5 p.m. ET 2/29/16.

Docket Numbers: ER16-655-000.

Applicants: Spinning Spur Wind LLC.

Description: Market-Based Triennial Review Filing: Spinning Spur Wind Triennial Filing to be effective 2/28/2016.

Filed Date: 12/29/15.

Accession Number: 20151229-5290.

Comments Due: 5 p.m. ET 2/29/16.

Docket Numbers: ER16-656-000.

Applicants: Oasis Power Partners, LLC.

Description: Market-Based Triennial Review Filing: Oasis Power Partners Triennial Update to be effective 2/28/2016.

Filed Date: 12/29/15.

Accession Number: 20151229-5291.

Comments Due: 5 p.m. ET 2/29/16.

Docket Numbers: ER16-657-000.

Applicants: Pacific Wind Lessee, LLC.

Description: Market-Based Triennial Review Filing: Pacific Wind Lessee Triennial Filing to be effective 2/28/2016.

Filed Date: 12/29/15.

Accession Number: 20151229-5292.

Comments Due: 5 p.m. ET 2/29/16.

Docket Numbers: ER16-658-000.

Applicants: Shiloh Wind Project 2, LLC.

Description: Market-Based Triennial Review Filing: Shiloh Wind Project 2 Triennial Filing to be effective 2/28/2016.

Filed Date: 12/29/15.

Accession Number: 20151229-5293.

Comments Due: 5 p.m. ET 2/29/16.

Docket Numbers: ER16-659-000.

Applicants: Shiloh III Lessee, LLC.

Description: Market-Based Triennial Review Filing: Shiloh III Lessee Triennial Filing to be effective 2/28/2016.

Filed Date: 12/29/15.

Accession Number: 20151229-5294.

Comments Due: 5 p.m. ET 2/29/16.

Docket Numbers: ER16-660-000.

Applicants: Shiloh IV Lessee, LLC.

Description: Market-Based Triennial Review Filing: Shiloh IV Lessee Triennial Filing to be effective 2/28/2016.

Filed Date: 12/29/15.

Accession Number: 20151229-5295.

Comments Due: 5 p.m. ET 2/29/16.

Docket Numbers: ER16-661-000.

Applicants: Appalachian Power Company.

Description: Section 205(d) Rate Filing: OATT—Revise Attachment K, TCC and TNC Rate Update to be effective 12/31/9998.

Filed Date: 12/29/15.

Accession Number: 20151229-5304.

Comments Due: 5 p.m. ET 1/19/16.

Docket Numbers: ER16-662-000.

Applicants: Duke Energy Progress, LLC.

Description: Tariff Cancellation: DEP Cancellation Filing to be effective 2/28/2016.

Filed Date: 12/30/15.

Accession Number: 20151230-5017.

Comments Due: 5 p.m. ET 1/20/16.

Docket Numbers: ER16-663-000.

Applicants: Duke Energy Florida, LLC.

Description: Tariff Cancellation: DEF Cancellation Filing to be effective 2/28/2016.

Filed Date: 12/30/15.

Accession Number: 20151230-5018.

Comments Due: 5 p.m. ET 1/20/16.

Docket Numbers: ER16-664-000.

Applicants: Midcontinent Independent System Operator, Inc., Entergy Services, Inc.

Description: Section 205(d) Rate Filing: 2015-12-30_RS 40 Revised EMI-SMEPA JPZ to be effective 1/1/2016.

Filed Date: 12/30/15.

Accession Number: 20151230-5108

Comments Due: 5 p.m. ET 1/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2015.
Nathaniel J. Davis, Sr.,
Deputy Secretary.

[FR Doc. 2015-33223 Filed 1-5-16; 8:45 am]

BILLING CODE 6717-01-P